DEPARTMENT OF LABOR

Employment and Training Administration

[TA-W-59,399]

Skyline Plastic Systems, Inc., Fletcher, NC; Notice of Termination of Investigation

Pursuant to section 221 of the Trade Act of 1974, as amended, an investigation was initiated on May 15, 2006 in response to a petition filed by a company official on behalf of workers of Skyline Plastic Systems, Inc., Fletcher, North Carolina.

The petition has been deemed invalid. The petitioner was not a company official but a worker of the firm. A petition for trade adjustment assistance and alternative trade adjustment assistance must be filed by three workers. Consequently, the investigation has been terminated.

Signed at Washington, DC, this 22nd day of May 2006.
Linda G. Poole,
Certifying Officer, Division of Trade Adjustment Assistance.

[FR Doc. E6-8950 Filed 6-7-06; 8:45 am]

BILLING CODE 4510-30-P